NATIONAL SCIENCE FOUNDATION

Agency Information Collection Activities: Comment Request

AGENCY: National Center for Science and Engineering Statistics, National Science Foundation.

ACTION: Submission for OMB review; comment request.

SUMMARY: The National Center for Science and Engineering Statistics (NCSES) within the National Science Foundation (NSF) has submitted the following information collection requirement to OMB for review and clearance under the Paperwork Reduction Act of 1995. This is the second notice for public comment; the first was published in the Federal Register and 2 comments were received. NCSES is forwarding the proposed renewal submission to the Office of Management and Budget (OMB) for clearance simultaneously with the publication of this second notice. The full submission may be found at: http://www.reginfo.gov/public/do/PRAMain.

SUPPLEMENTARY INFORMATION:

Comments: Comments regarding (a) whether the collection of information is necessary for the proper performance of the functions of the NCSES, including whether the information will have practical utility; (b) the accuracy of the NCSES's estimate of the burden of the proposed collection of information; (c) ways to enhance the quality, use, and clarity of the information to be collected, including through the use of automated collection techniques or other forms of information technology; (d) ways to minimize the burden of the collection of information on those who are to respond, including through the use of appropriate automated or other forms of information technology should be addressed to: Office of Information and Regulatory Affairs of OMB, Attention: Desk Officer for National Science Foundation, 725 7th Street NW, Room 10235, Washington, DC 20503, and to Suzanne H. Plimpton, Reports Clearance Officer, National Science Foundation, 2415 Eisenhower Avenue, Suite 18200, Alexandria, VA 22314 or send email to splimpto@nsf.gov.

NCSES may not conduct or sponsor a collection of information unless the collection of information displays a currently valid OMB control number and the agency informs potential persons who are to respond to the collection of information that such persons are not required to respond to the collection of information unless it displays a currently valid OMB control number.

Title of Collection: Survey of Graduate Students and Postdoctorates in Science and Engineering.

OMB Control Number: 3145-0062.

Summary of Collection: The Survey of Graduate Students and Postdoctorates in Science and Engineering (GSS), sponsored by the NCSES within NSF and the National Institutes of Health, is designed to comply with legislative mandates by providing information on the characteristics of academic graduate enrollments in science, engineering and health fields. This request to extend the information collection for three years is to cover the 2020, 2021, and 2022 GSS survey cycles. The information collected by the GSS is solicited under the authority of the National Science Foundation Act of 1950, as amended and the America COMPETES Reauthorization Act of 2010. Data collection starts each fall in October and data are obtained primarily through a Web survey. Data are disseminated annually. All information will be used for statistical purposes only. Participation in the survey is voluntary.

To improve coverage of postdocs, the GSS periodically collects information on postdocs employed in Federally Funded Research and Development Centers (FFRDCs). This survey of postdocs at FFRDCs will be conducted as part of the 2021 GSS survey cycle.

Additional details regarding this survey are provided in an earlier Federal Register Notice, at 85 FR 19169.

Use of the Information: The GSS data are routinely provided to Congress, other parts of NSF, other Federal agencies, the GSS institutions themselves, and several professional societies. In addition, the National Institutes of Health (NIH) publish GSS data annually in the NIH Data Book https://report.nih.gov/nihdatabook/.

Expected Respondents: The GSS is an annual census of all eligible academic institutions in the U.S. with graduate programs in science, engineering, and health fields. The response rate is calculated based on the number of reporting units (departments, programs, research centers, and health care facilities) that respond to the survey. For reference, in 2018, the GSS population was 19,592 units at 715 academic institutions. Based on recent cycles NCSES expects the annual response rate to be around 99 percent.

Estimate of Burden: The total estimated respondent burden of the GSS, including 1,000 hours for potential methodological studies to improve the survey procedures, will be 56,480 hours over the three-cycle survey clearance period. NCSES may review and revise this burden estimate based on completion time data collected during the 2019 GSS survey cycle, which is ongoing.

Table 1—GSS Estimated Response Burden
Category | Respondents (number of school coordinators) | Total burden (hours)
Total burden for 2020 | 911 | 18,424
Total burden for 2021 | 959 | 18,542
GSS institutions | 916 | 18,469
FFRDCs | 43 | 73
Total burden for 2022 | 921 | 18,514
Potential future methodological studies (across all 3 survey cycles) |  | 1,000
Total estimated burden | 2,791 | 56,480
Estimated average annual burden | 930 | 18,827

Comments: As required by 5 CFR 1320.8(d), comments on the information collection activities as part of this study were solicited through publication of a 60-Day Notice in the Federal Register on April 6, 2020, at 85 FR 19169. NCSES received 2 comments.

NCSES received the first comment on 4 April 2020 from an economics professional association requesting a copy of the draft information collection request (ICR) including the survey instrument and supporting statement. NCSES informed the commenters that the ICR was currently undergoing internal review within NCSES with plans to submit it for public review in June and that the GSS would be largely unchanged from its current design.

NCSES received a second comment on 6 May 2020 from a group representing several organizations. The commenters requested that NCSES include measures of sexual orientation and gender identity on the GSS. NCSES informed the commenters that it shares their interest in improving federal data collections and providing reliable measures for important segments of the population. Furthermore, NCSES described its process for evaluating possible questionnaire additions, including the extensive experimentation involved and the time and resources required. Finally, NCSES informed the commenters that it is conducting research to evaluate these measures and does not intend to include them in the 2020-22 GSS.

Dated: June 22, 2020.
Suzanne H. Plimpton,
Reports Clearance Officer, National Science Foundation.

[FR Doc. 2020-13768 Filed 6-25-20; 8:45 am]

BILLING CODE 7555-01-P